DEPARTMENT OF HEALTH AND HUMAN SERVICES

Centers for Disease Control and Prevention

Breast and Cervical Cancer Early Detection and Control Advisory Committee (BCCEDCAC)

In accordance with section 10(a)(2) of the Federal Advisory Committee Act (Pub. L. 92-463), the Centers for Disease Control and Prevention (CDC) announces the following committee meeting:

Times and Dates: 12 p.m.-5 p.m., March 15, 2010. 8:30 a.m.-5 p.m., March 16, 2010. 8:30 a.m.-3 p.m., March 17, 2010.

Place: Crowne Plaza Atlanta Perimeter at Ravinia, 4355 Ashford Dunwoody Road, Atlanta, GA 30346, Telephone: 770-395-7700.

Status: Open to the public, limited only by the number of seats available.

Purpose: The committee is charged with advising the Secretary, Department of Health and Human Services, and the Director, CDC, regarding the early detection and control of breast and cervical cancer. The committee makes recommendations regarding national program goals and objectives; implementation strategies; and program priorities including surveillance, epidemiologic investigations, education and training, information dissemination, professional interactions and collaborations, and policy.

Matters To Be Discussed: The agenda will include discussion and review of U.S. Preventive Services Task Force guidelines for breast and cervical cancer screening; Impact of the revised clinical screening recommendations for both breast and cervical cancer on the National Breast and Cervical Cancer Early Detection Program; Discussion of what, if any, modifications should be made to the NBCCEDP's current screening policies based on revised recommendations.

Agenda items are subject to change as priorities dictate.

Contact Person for More Information: Dr. Chastity Walker, Designated Federal Officer, BCCEDCAC, Division of Cancer Prevention and Control, National Center for Chronic Disease Prevention and Health Promotion, CDC, 4770 Buford Highway, Mailstop K-57, Chamblee, Georgia 30316, Telephone: 770-488-3013.

The Director, Management Analysis and Services Office, has been delegated the authority to sign Federal Register notices pertaining to announcements of meetings and other committee management activities, for both the Centers for Disease Control and Prevention and the Agency for Toxic Substances and Disease Registry.

Dated: February 3, 2010.
Elaine L. Baker,
Director, Management Analysis and Services Office, Centers for Disease Control and Prevention.

[FR Doc. 2010-3143 Filed 2-17-10; 8:45 am]

BILLING CODE 4163-18-P